SURFACE TRANSPORTATION BOARD

[Docket No. FD 36808]

Georges Creek Division Railroad, LLC—Lease and Operation Exemption—Eighteen Thirty Group, LLC

Georges Creek Division Railroad, LLC (GCDR), a noncarrier, has filed a verified notice of exemption under 49 CFR part 1150, subpart D, to lease and conduct common carrier operations over approximately 14.49 miles of rail line as follows: (a) 13.94 miles of railroad line consisting of a portion of the former CSXT Transportation, Inc. (CSXT) Georges Creek Subdivision between approximately milepost BAI 31.6 at Westernport, Md., and approximately milepost BAI 18.46 at the end of the line at Carlos/Shaft, Md.; and (b) 0.55 miles of railroad consisting of a portion of the former CSXT Thomas Subdivision from approximately milepost BAH 26.25 at Barton, Md., to the end of track at approximately milepost BAH 26.80 at Westernport (collectively, the Lines).

According to the verified notice, the Lines are owned by Eighteen Thirty Group, LLC (Eighteen Thirty). The verified notice states that GCDR and Eighteen Thirty are finalizing a Land and Rail Assets Lease Agreement (Lease), under which GCDR will assume the right and obligation to offer and provide railroad common carrier service over the Lines. Furthermore, the verified notice states that the Lease will permit GCDR to enter into a land and rail assets sublease agreement with Western Maryland Scenic Railroad Development Corporation (WMSR), the noncarrier that controls GCDR, to enable WMSR to operate intrastate excursion and railroad tourism over the Lines.¹

¹ According to the verified notice, under such a sublease, WMSR would assume all rights and obligations in the Lines under the Lease except the right and obligation to offer and provide railroad common carrier service, which GCDR would retain.

GCDR certifies that its projected annual revenue will not result in the creation of a Class I or Class II rail carrier and will not exceed $5 million. GCDR also certifies that the agreement does not include an interchange commitment. The transaction may be consummated on or after September 28, 2024, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 20, 2024 (at least seven days before the exemption becomes effective).

All pleadings, referring to Docket No. FD 36808, must be filed with the Surface Transportation Board either via e-filing on the Board's website or in writing addressed to 395 E Street SW, Washington, DC 20423-0001. In addition, a copy of each pleading must be served on GCDR's representative, Robert A. Wimbish, Fletcher & Sippel LLC, 29 North Wacker Drive, Suite 800, Chicago, IL 60606-3208.

According to GCDR, this action is categorically excluded from environmental review under 49 CFR 1105.6(c) and from historic preservation reporting requirements under 49 CFR 1105.8(b).

Board decisions and notices are available at www.stb.gov.

Decided: September 9, 2024.
By the Board, Scott M. Zimmerman, Acting Director, Office of Proceedings.
Zantori Dickerson,
Clearance Clerk.

[FR Doc. 2024-20762 Filed 9-12-24; 8:45 am]

BILLING CODE 4915-01-P